DEPARTMENT OF AGRICULTURE

Forest Service

Eastern Idaho Resource Advisory Committee; Caribou-Targhee National Forest, Idaho Falls, ID

AGENCY: Forest Service, USDA.

ACTION: Notice of meeting.

SUMMARY: Pursuant to the authorities in the Federal Advisory Committee Act (Public Law 92-463) and under the Secure Rural Schools and Community Self-Determination Act of 2000 (Public Law 106-393) the Caribou-Targhee National Forests' Eastern Idaho Resource Advisory Committee will meet Tuesday, July 9, 2002 in Idaho Falls for a business meeting. The meeting is open to the pubic.

DATES: The business meeting will be held on July 9, 2002 from 10 a.m. to 3 p.m.

ADDRESSES: The meeting location is the Caribou-Targhee National Forest Headquarters Office 1405 Hollipark Drive, Idaho Falls Idaho 83402.

FOR FURTHER INFORMATION CONTACT: Jerry Reese, Caribou-Targhee National Forest Supervisor and Designated Federal Officer, at (208) 524-7500.

SUPPLEMENTARY INFORMATION: The business meeting on July 9, 2002, begins at 10 a.m., at the Caribou-Targhee National Forest Headquarters Office, 1405 Hollipark Drive, Idaho Falls, Idaho. Agenda topics will include project proposal presentations from those projects were invited to this meeting. At the end of meeting, Resource Advisory Committee will make a decision on projects to fund.

Dated: June 10, 2002.
Jerry B. Reese,
Caribou-Targhee Forest Supervisor.

[FR Doc. 02-15040 Filed 6-13-02; 8:45 am]

BILLING CODE 3410-11-M